DEPARTMENT OF HOMELAND SECURITY

Office of the Secretary

[DHS-2005-0038]

Data Privacy and Integrity Advisory Committee

AGENCY: Office of the Secretary, DHS.

ACTION: Notice of Federal Advisory Committee Meeting.

SUMMARY: This notice announces the date, time, location, and agenda for the next meeting of the Department of Homeland Security Data Privacy and Integrity Advisory Committee.

DATES: This meeting will be held on Wednesday, June 15, 2005, 9 a.m. to 4:30 p.m., Cambridge, MA.

ADDRESSES: The Department of Homeland Security Data Privacy and Integrity Advisory Committee meeting will be held at Harvard Law School in the Ropes-Gray Room, Pound Hall, 2nd floor, 1563 Massachusetts Avenue, Cambridge, MA 02138.

Persons who are unable to attend or speak at the meeting may submit comments at any time. Comments must be identified by docket number DHS-2005-0038 and may be submitted by one of the following methods:

• EPA Federal Partner EDOCKET Web Site: http://www.epa.gov/feddocket. Follow the instructions for submitting comments on the Web site.

• Federal eRulemaking Portal: http://www.regulations.gov. Follow the instructions for submitting comments.

• E-mail: PrivacyCommittee@dhs.gov. Include docket number DHS-2005-0038 in the subject line of the message.

• Fax: 571-227-4171.

• Mail: Rebecca J. Richards, Executive Director, Data Privacy and Integrity Advisory Committee, Department of Homeland Security, 601 S 12th Street, E3-S, D-3, Arlington, VA 22202.

Instructions: All submissions received must include the agency name and docket number for this notice. All comments received will be posted without change to http://www.epa.gov/feddocket, including any personal information provided.

Docket: For access to the docket to read background documents or comments received, go to http://www.epa.gov/feddocket. You may also access the Federal eRulemaking Portal at http://www.regulations.gov.

FOR FURTHER INFORMATION CONTACT: Nuala O'Connor Kelly, Chief Privacy Officer, or Rebecca J. Richards, Executive Director, Data Privacy and Integrity Advisory Committee, Department of Homeland Security, 601 S 12th Street, E3-S, D-3, Arlington, VA 22202 by telephone 571-227-3813, by facsimile 571-227-4171, or by e-mail PrivacyCommittee@dhs.gov.

SUPPLEMENTARY INFORMATION: The Department of Homeland Security (DHS) Data Privacy and Integrity Advisory Committee (Privacy Advisory Committee) will be meeting on Wednesday, June 15, 2005, at the Ropes-Gray Room, Pound Hall, 2nd floor, Harvard Law School, 1563 Massachusetts Avenue, Cambridge, MA 02138. The meeting will begin at 9 a.m. and continue until 4:30 p.m. Although most of the meeting is open to the public, the session between 12:30 p.m. and 2 p.m. will be closed in order to permit the Privacy Advisory Committee members to discuss administrative and planning items, including the schedule for future Committee and Subcommittee meetings and a timeline for possible Subcommittee reports to the full Committee.

At the meeting, the Chairperson and Vice-Chairperson of the Committee will announce the Committee's goals, as well as introduce the Subcommittees and their respective Chairpersons. In the morning, there will be panel presentations from DHS officials and Committee discussion about screening programs within DHS. In the afternoon, there will be panel presentations from privacy and technology experts and Committee discussion on screening, data mining, and technology issues.

At two points during the meeting, between 12 p.m. and 12:30 p.m. and between 3:45 p.m. and 4:30 p.m., public comments will be accepted. All those who wish to testify may register in advance or sign-up on the day of the meeting and, in order to allow as many people as possible to testify, should limit their remarks to three minutes. Due to limited seating, any member of the public who wishes to attend the public session should provide his or her name no later than 12 p.m. e.s.t., Monday, June 13, 2005, to Rebecca J. Richards via e-mail at PrivacyCommittee@dhs.gov, or via telephone at 571-227-3813. Photo identification will be required for entry on the day of the meeting to verify those individuals who have registered for the public session, and everyone who plans to attend should be present and seated by 8:45 a.m., or 1:45 p.m., if only attending the afternoon session. Registration information required for attendance will be used for verification purposes on the day of the meeting. Attendance information, including names of members of the public attending, may be made public as part of the official meeting minutes.

Persons with disabilities who require special assistance should indicate this in their admittance request and are encouraged to indicate anticipated special needs as early as possible.

Although every effort will be made to accommodate all members of the public, seating is limited and will be allocated on a first-come, first-served basis.

Basis for Closure: In accordance with Section 10(d) of the Federal Advisory Committee Act, Pub. L. 92-463, as amended, 86 Stat. 770, the Secretary has determined that portions of this Privacy Advisory Committee meeting, for administrative and planning purposes which are referenced above, are excluded from the Open Meetings requirement pursuant to the authority contained in 41 CFR part 102-3.160(b).

Dated: May 23, 2005.
Nuala O'Connor Kelly,
Chief Privacy Officer.

[FR Doc. 05-10663 Filed 5-27-05; 8:45 am]

BILLING CODE 4410-10-P